FEDERAL COMMUNICATIONS COMMISSION

[WT Docket No. 07-110; DA 07-2185]

David O. Castle, Application To Renew License for Amateur Radio Service Station WA9KJI

AGENCY: Federal Communications Commission.

ACTION: Notice.

SUMMARY: In this document, the Commission initiates a hearing proceeding before a Commission Administrative Law Judge to determine whether an application to renew the license for Amateur Radio Service Station WA9KJI filed by David O. Castle should be granted.

DATES: The document was mailed to the party on May 24, 2007.

ADDRESSES: Federal Communications Commission, 445 12th St., SW., Washington, DC 20554.

FOR FURTHER INFORMATION CONTACT: Gary Schonman, Enforcement Bureau, at Gary.Schonman@fcc.gov or (202) 418-1795 or TTY (202) 418-1152.

SUPPLEMENTARY INFORMATION: This is a summary of the Hearing Designation Order in WT Docket No. 07-110, DA 07-2185, adopted by the Commission's Wireless Telecommunications Bureau on May 23, 2007, and released on May 24, 2007. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: www.fcc.gov. Alternative formats are available to persons with disabilities by sending an e-mail to fcc504@fcc.gov or by calling the Consumer & Governmental Affairs Bureau at 202-418-0530 (voice), 202-418-0432 (tty).

Synopsis of the Order

1. In this Hearing Designation Order, the Commission commences a hearing proceeding before a Commission Administrative Law Judge to determine whether the above-captioned application filed by David O. Castle for renewal of his license for Amateur Radio Station WA9KJI should be granted. As discussed below, the record before us indicates that Castle has apparently willfully and repeatedly engaged in unlawful Commission-related activities, including intentionally causing interference, broadcasting without communicating with any particular station, and using slanderous, harassing, and indecent language on amateur frequencies. Based on the information before us, we believe that Castle's apparent continuing course of misconduct raises a substantial and material question of fact as to whether he possesses the requisite character qualifications to be and remain a Commission licensee. Accordingly, we hereby designate his application for hearing.

2. Pursuant to sections 4(i) and 309(e) of the Communications Act of 1934, as amended, 47 U.S.C. 154(i), and 309(e), the captioned application IS DESIGNATED FOR HEARING in a proceeding before an FCC Administrative Law Judge, at a time and place to be specified in a subsequent Order, upon the following issues:

(a) To determine whether David O. Castle willfully and/or repeatedly violated Section 333 of the Communications Act of 1934, as amended, and § 97.101(d) of the Commission's Rules, by intentionally interfering with radio communications;

(b) To determine whether David O. Castle willfully and/or repeatedly violated § 97.113(b) of the Commission's Rules by broadcasting one-way communications on amateur frequencies;

(c) To determine whether David O. Castle willfully and/or repeatedly violated § 97.113(a)(4) of the Commission's Rules by transmitting indecent language;

(d) To determine the effect, if any, of the use by David O. Castle of his amateur license to engage in criminal behavior on his qualifications to be and remain a Commission licensee;

(e) To determine, in light of the evidence adduced pursuant to the foregoing issues, whether David O. Castle is qualified to be and remain a Commission licensee;

(f) To determine, in light of the evidence adduced pursuant to the foregoing issues, whether the captioned application filed by David O. Castle should be granted.

3. Pursuant to section 4(i) of the Communications Act of 1934, as amended, 47 U.S.C. 154(i), and § 1.221(c) of the Commission's rules, 47 CFR 1.221(c), in order to avail himself of the opportunity to be heard, David O. Castle, in person or by his attorney, SHALL FILE with the Commission, within twenty calendar days of the mailing of this Hearing Designation Order to him, a written appearance stating that he will appear on the date fixed for hearing and present evidence on the issues specified herein.

4. Pursuant to § 1.221(c) of the Commission's rules, 47 CFR 1.221(c), if David O. Castle fails to file a written appearance within the twenty-day period, or has not filed prior to the expiration of the twenty-day period, a petition to dismiss without prejudice, or a petition to accept, for good cause shown, a written appearance beyond the expiration of the twenty-day period, the Presiding Administrative Law Judge SHALL DISMISS the captioned application with prejudice for failure to prosecute.

5. The Chief, Enforcement Bureau, shall be made a party to this proceeding without the need to file a written appearance.

6. Pursuant to sections 4(i) and 309(e) of the Communications Act of 1934, as amended, 47 U.S.C. 154(i), and 309(e), the burden of proceeding with the introduction of evidence and the burden of proof with respect to all of the issues specified above SHALL BE on David O. Castle.

7. A copy of this Hearing Designation Order or a summary thereof SHALL BE PUBLISHED in the Federal Register.

8. This action is taken under delegated authority pursuant to §§ 0.131 and 0.331 of the Commission's rules, 47 CFR 0.131, and 0.331.

Federal Communications Commission.
Scot Stone,
Deputy Chief, Mobility Division.

[FR Doc. E7-11245 Filed 6-12-07; 8:45 am]

BILLING CODE 6712-01-P